Title 3—

The President

Proclamation 8516 of May 7, 2010

National Women’s Health Week, 2010

By the President of the United States of America

A Proclamation

In recent decades, our Nation has made extraordinary progress in promoting women’s health issues. However, far too many women remain underserved and we must continue working to ensure all women can access medical services, receive fair treatment, and make healthy choices. During National Women’s Health Week, we recommit to breaking existing barriers and improving the health of American women for generations to come.

Many American women face significant obstacles in caring for themselves and their families. That is why my Administration fought tirelessly to pass the Affordable Care Act, which I recently signed into law. This landmark legislation gives Americans greater control over their health care decisions and access to affordable and equitable insurance. It lowers costs for women and prohibits insurance companies from overcharging because of gender or denying coverage due to a pre-existing condition. The Affordable Care Act also requires that new health care plans cover preventive care, routine screenings, and regular checkups, as well as basic pediatric services for children. These services are vital to maintaining individual well-being, and empower women when making choices for themselves and their families. Visit HealthReform.gov to learn more about how the Affordable Care Act benefits Americans across the country.

We have taken steps to provide access to high-quality, affordable health care, but individuals must also lead healthy lives and set a good example for their children. From scheduling regular medical examinations to applying sunscreen, simple, everyday activities can make a positive impact on the lives of women. Regular exercise, coupled with a nutritious diet, helps prevent heart disease, obesity, and other chronic conditions. Visit WomensHealth.gov and GirlsHealth.gov for more information and resources on women’s health issues. I also encourage Americans to visit www.WhiteHouse.gov/Administration/EOP/CWG to learn about the White House Council on Women and Girls—a body I created to bring women’s issues to the forefront, and to emphasize women’s roles as full partners in shaping and implementing our Nation’s policies.

The health of American women and girls is not just a women’s issue; all Americans have a vested interest. Women are the foundation of many families, and by encouraging their wellness, we also promote the vitality of our children and our communities. By standing firm in our commitment to improve women’s health, we can give our daughters and granddaughters—and all Americans—a brighter future.

NOW, THEREFORE, I, BARACK OBAMA, President of the United States of America, by virtue of the authority vested in me by the Constitution and the laws of the United States, do hereby proclaim May 9-15, 2010, as National Women’s Health Week. I encourage all Americans to celebrate the progress we have made in protecting women’s health and promote prevention, awareness, and educational activities that improve the health of all women.

IN WITNESS WHEREOF, I have hereunto set my hand this seventh day of May, in the year of our Lord two thousand ten, and of the Independence of the United States of America the two hundred and thirty-fourth.

[FR Doc. 2010-11554

Filed 5-11-10; 11:15 am]

Billing code 3195-W0-P